DEPARTMENT OF VETERANS AFFAIRS

Genomic Medicine Program Advisory Committee; Notice of Meeting

The Department of Veterans Affairs (VA) gives notice under the Federal Advisory Committee Act, 5 U.S.C. App. 2 that the Genomic Medicine Program Advisory Committee will meet on October 10, 2014, at the U.S. Access Board at 1331 F Street NW., Suite 1000, Washington, DC. The meeting will convene at 9:00 a.m. and adjourn at 5:00 p.m. The meeting is open to the public. Anyone attending must show a valid photo ID to building security and be escorted to the meeting. Please allow 15 minutes before the meeting begins for this process.

The purpose of the Committee is to provide advice and make recommendations to the Secretary of Veterans Affairs on using genetic information to optimize medical care for Veterans and to enhance development of tests and treatments for diseases particularly relevant to Veterans.

The Committee will receive program updates and continue to provide insight into optimal ways for VA to incorporate genomic information into its health care program while applying appropriate ethical oversight and protecting the privacy of Veterans. The meeting focus will be on developing the information technology and informatics infrastructure, quality control of genomic data, and data access and sharing policies. The Committee will also receive an update on the status of the ongoing Million Veteran Program and the Clinical Genomics Service. Public comments will be received at 3:30 p.m. and are limited to 5 minutes each. Individuals who speak are invited to submit a 1-2 page summary of their comments for inclusion in the official meeting record to Dr. Sumitra Muralidhar, Designated Federal Officer, 810 Vermont Avenue NW., Washington, DC 20420, or by email at sumitra.muralidhar@va.gov. Any member of the public seeking additional information should contact Dr. Muralidhar at (202) 443-5679.

Dated: September 15, 2014.
Jelessa Burney,
Federal Advisory Committee Management Officer.

[FR Doc. 2014-22247 Filed 9-17-14; 8:45 am]

BILLING CODE 8320-01-P